DEPARTMENT OF HOMELAND SECURITY

U.S. Customs and Border Protection

Implementation of the Commonwealth of the Northern Mariana Islands (CNMI) Economic Vitality & Security Travel Authorization Program (EVS-TAP)

AGENCY: U.S. Customs and Border Protection, DHS.

ACTION: General notice.

SUMMARY: This document announces the implementation of the Commonwealth of the Northern Mariana Islands (CNMI) Economic Vitality & Security Travel Authorization Program (EVS-TAP). The CNMI EVS-TAP is a restricted sub-program of the Guam-CNMI Visa Waiver Program and allows prescreened nationals of the People's Republic of China to travel to the CNMI without a visa under specified conditions. In accordance with Department of Homeland Security regulations, DHS will begin implementation of the CNMI EVS-TAP requirements 45 days after publication of this notification of implementation in the Federal Register.

DATES: Implementation of the CNMI EVS-TAP requirements will begin as of February 20, 2024.

FOR FURTHER INFORMATION CONTACT: Neyda Yejo, Office of Field Operations, U.S. Customs and Border Protection, (202) 344-2373, or via email at Neyda.I.Yejo@cbp.dhs.gov.

SUPPLEMENTARY INFORMATION:

Background

On January 18, 2024, the Department of Homeland Security (DHS), through U.S. Customs and Border Protection (CBP), published an interim final rule (IFR) in the Federal Register (89 FR 3299) with an effective date of September 30, 2024. The IFR, promulgated in consultation with the Secretary of the Interior and the Secretary of State, amended DHS regulations to establish an electronic travel authorization process for individuals traveling to Guam or the Commonwealth of the Northern Mariana Islands (CNMI) under the Guam-CNMI Visa Waiver Program (G-CNMI VWP). See § 212.1(q)(9) of title 8 of the Code of Federal Regulations (8 CFR 212.1(q)(9)). The IFR also amended DHS regulations to establish the CNMI Economic Vitality & Security Travel Authorization Program (EVS-TAP) that also includes an electronic travel authorization process for certain nationals of the People's Republic of China (PRC) traveling to the CNMI only. See 8 CFR 212.1(r). As detailed in the IFR, to fully integrate the two automated systems in an efficient and cost-effective manner, DHS would implement the CNMI EVS-TAP after the system for G-CNMI VWP automation became fully operational. 89 FR at 3303, 3310. The IFR explained that when DHS was ready to fully implement CNMI EVS-TAP, DHS would provide notification in the Federal Register, and the CNMI EVS-TAP would be implemented 45 days after publication as set forth in 8 CFR 212.1(r)(11). Id.

Implementation of CNMI EVS-TAP

Although the IFR was effective on September 30, 2024, DHS incorporated a 60-day transition period to facilitate travelers adjusting to the new collection method. See 8 CFR 212.1(q)(9)(i). This 60-day transition period ended on November 29, 2024, and the system for G-CNMI VWP automation is fully operational. Accordingly, carriers must now deny boarding to travelers without a visa or without an approved electronic travel authorization. See 8 CFR 212.1(q)(5)(iv).

DHS is now ready to implement CNMI EVS-TAP. Pursuant to 8 CFR 212.1(r)(11), this document provides notification that CBP is implementing the requirements of CNMI EVS-TAP set forth in 8 CFR 212.1(r) for certain PRC nationals as of February 20, 2024. At that time, eligible nationals from the PRC seeking to travel to the CNMI only for a period not to exceed 14 days without a visa under the CNMI EVS-TAP will be required to obtain an electronic travel authorization from CBP prior to embarking on such travel. See 8 CFR 212.1(r). Concurrently, the current parole policy for PRC nationals seeking to enter the CNMI will be discontinued on February 20, 2024.

Alejandro N. Mayorkas,
Secretary of Homeland Security.

[FR Doc. 2024-31326 Filed 1-3-25; 8:45 am]

BILLING CODE 9111-14-P